DEPARTMENT OF JUSTICE

[CPCLO Order No. 005-2010]

Privacy Act of 1974; System of Records

AGENCY: Federal Bureau of Investigation, Department of Justice.

ACTION: Notice of a Modification of a System of Records.

SUMMARY: Pursuant to the Privacy Act of 1974 (5 U.S.C. 552a), the Federal Bureau of Investigation (FBI), Department of Justice, proposes to modify an existing system of records entitled “Data Integration and Visualization System,” JUSTICE/FBI-021, which describes the Data Integration and Visualization System (DIVS), to revise the System Location section to clarify locations where the records may be directly accessed and by whom the records may be directly accessed. A new sentence has been added at the end of the System Location section to reflect this information. This system notice was last published on August 31, 2010 (75 FR 53342).

DATES: In accordance with 5 U.S.C. 552a(e)(4) and (11), the public is given a 30-day period in which to comment. Therefore, please submit any comments by November 26, 2010.

ADDRESSES: The public, OMB, and Congress are invited to submit any comments to the Department of Justice, ATTN: Privacy Analyst, Office of Privacy and Civil Liberties, Department of Justice, National Place Building, 1331 Pennsylvania Avenue NW., Suite 940, Washington, DC 20530-0001, or by facsimile at 202-307-0693.

FOR FURTHER INFORMATION CONTACT: Erin Page, Assistant General Counsel, Privacy and Civil Liberties Unit, Office of the General Counsel, FBI, Washington, DC 20530-0001, telephone 202-324-3000.

In accordance with 5 U.S.C. 552a (r), the Department has provided a report to OMB and the Congress on the modified system of records.

Dated: October 4, 2010.
Nancy C. Libin,
Chief Privacy and Civil Liberties Officer.

JUSTICE/FBI-021

SYSTEM NAME:

Data Integration and Visualization System.

* * * * *

SYSTEM LOCATION:

[Revise the previously published System Location by adding a new sentence at the end of the paragraph.]

Records may be maintained at any location at which the Federal Bureau of Investigation (FBI) operates or at which FBI operations are supported, including: J. Edgar Hoover Building, 935 Pennsylvania Ave., NW., Washington, DC 20535-0001; FBI Academy and FBI Laboratory, Quantico, VA 22135; FBI Criminal Justice Information Services (CJIS) Division, 1000 Custer Hollow Rd., Clarksburg, WV 26306; and FBI field offices, legal attaches, information technology centers, and other components listed on the FBI's Internet Web site, http://www.fbi.gov. Some or all system information may also be duplicated at other locations for purposes of system backup, emergency preparedness, and/or continuity of operations. Additionally, appropriate offices/employees within the Department of Justice that have an official need to know the information contained in DIVS in order to perform their duties, may also be granted direct access to DIVS. Further, employees in other government agencies who are under FBI supervision, in offices where FBI operations are supported, and who have an official need to know the information contained in DIVS in order to perform their duties may also be granted direct access to DIVS.

* * * * *

[FR Doc. 2010-27101 Filed 10-26-10; 8:45 am]

BILLING CODE 4410-02-P